DEPARTMENT OF VETERANS AFFAIRS

Advisory Committee on Minority Veterans, Notice of Meeting

The Department of Veterans Affairs (VA) gives notice under Public Law 92-463 (Federal Advisory Committee Act) that a meeting of the Advisory Committee on Minority Veterans will be held from Monday, June 10, 2002, through Wednesday, June 12, 2002, at the Department of Veterans Affairs, 810 Vermont Avenue, NW, Room 230, Washington, DC. Each day the meeting will convene at 8:30 a.m. and adjourn at 5:00 p.m. The meeting is open to the public. The Committee will meet to write the Committee's legislatively mandated annual report.

The purpose of the Advisory Committee on Minority Veterans is to advise the Secretary of Veterans Affairs on the administration of VA benefits and services to minority veterans, to assess the needs of minority veterans, and to evaluate whether VA compensation, medical and rehabilitation services, outreach, and other programs are meeting those needs. The Committee will make recommendations to the Secretary regarding such activities.

Those wishing to attend the meeting should contact Mr. Anthony T. Hawkins, Department of Veterans Affairs, at (202) 273-6708. No time will be allocated for receiving oral presentations from the public. However, the Committee will accept written comments form interested parties on the meeting agenda items and other issues affecting minority veterans. Such comments should be referred to the Committee at the following address: Advisory Committee on Minority Veterans, Center for Minority Veterans (00M), U.S. Department of Veterans Affairs, 810 Vermont Avenue, NW, Washington, DC 20420.

Dated: May 8, 2002.
By direction of the Secretary.
Nora E. Egan,
Committee Management Officer.

[FR Doc. 02-12672 Filed 5-20-02; 8:45 am]

BILLING CODE 8320-01-M